DEPARTMENT OF DEFENSE

Office of the Secretary

Department of Defense Task Force on the Future of the Military Health Care; Sunshine Act Meeting

AGENCY: Office of the Assistant Secretary of Defense (Health Affairs); DoD.

ACTION: Amendment to notice of meeting.

SUMMARY: Pursuant to the Federal Advisory Committee Act of 1972 (5 U.S.C., Appendix, as amended) and the Sunshine in the Government Act of 1976 (5 U.S.C. 552b, as amended), the Department of Defense announces an amendment to the March 9, 2007 meeting notice for the Department of Defense Task Force on the Future of the Military Health Care.

On Friday, March 9, 2007 (72 FR 10717), the Department of Defense Task Force on the Future of the Military Health Care announced that its March 28, 2007 meeting would conduct an open meeting from 8:30 a.m. to 4 p.m. The March 9th Federal Register notice also indicated that the Task Force would hold an administrative work meeting from 8:30 a.m. to 9:15, and a preparatory work meeting from 3:30 p.m. to 4 p.m.

Due to changing requirements, the Task Force has cancelled its previously scheduled administrative work meeting and will delay the start of its open meeting. Instead the Task Force will conduct a preparatory work meeting from 8:30 a.m. to 11:45 a.m. to gather information, conduct research and analyze relevant issues and facts to draft position papers for deliberation by the Task Force Members. Following the preparatory work meeting, the Task Force will conduct an open meeting. The open meeting will be from 12 p.m. to 3:30 p.m., and the public or interested parties are invited to attend the meeting. Immediately following the public meeting, the Task Force will hold its previously announced preparatory work meeting from 3:40 p.m. to 4 p.m.

In addition to changing the March 28, 2007 meeting schedule, the Task Force is changing the topics to be discussed at the open meeting. The Task Force will discuss managed care issues.

All March 28, 2007 meetings of the Department of Defense Task Force on the Future of the Military Health Care will be held at the National Transportation.

In view of the Task Force's decision to cancel its administrative work meeting to analyze relevant issues and facts to draft position papers for deliberation, the Committee Management Officer for the Department, pursuant to his authority under 41 CFR 102-3.150(b), has authorized a waiver to the 15-calendar day rule (41 CFR 102-3.150(a)).

Additional information and meeting registration is available online at the Defense Health Board Web site, http://www.ha.osd.mil/dhb.

FOR FURTHER INFORMATION CONTACT: Colonel Christine Bader, Executive Secretary, Department of Defense Task Force on the Future of Military Health Care, Skyline One, 5205 Leesburg Pike, Suite 810, Falls Church, VA 22041, (703) 681-3279, ext. 109 (christine.bader@ha.osd.mil).

SUPPLEMENTARY INFORMATION: Open sessions of the meeting will be limited by space accommodations. Any interested person may attend; however, seating is limited to the space available at the National Transportation Safety Board Conference Center. Individuals or organizations wishing to submit written comments for consideration by the Task Force should provide their comments in an electronic (PDF Format) document to the Executive Secretary of the Department of Defense Task Force on the Future of Military Health Care, christine.bader@ha.osd.mil, no later than five (10) business days prior to the scheduled meeting.

Dated: March 23, 2007.
L.M. Bynum,
Alternate OSD Federal Register, Liaison Officer, Department of Defense.

[FR Doc. 07-1559 Filed 3-27-07; 10:37 am]

BILLING CODE 5001-06-M